DEPARTMENT OF THE INTERIOR

National Park Service

[NPS-WASO-NRNHL-DTS#-32709; PPWOCRADI0, PCU00RP14.R50000]

National Register of Historic Places; Notification of Pending Nominations and Related Actions

AGENCY: National Park Service, Interior.

ACTION: Notice.

SUMMARY: The National Park Service is soliciting electronic comments on the significance of properties nominated before September 18, 2021, for listing or related actions in the National Register of Historic Places.

DATES: Comments should be submitted electronically by October 14, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before September 18, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

NEW YORK

Albany County

Consolidated Car Heating Company Complex, 413 North Pearl St., 928-940 Broadway, Albany, SG100007080

Broome County

Main Street Historic District, 5-131½ and 8-142 Main, 80-138 and 83-155 Front, 109 Oak, 115 Murray, and 89 Walnut Sts., Binghamton, SG100007083

Otsego County

Evangelical Lutheran Church, 4636 NY 28, Hartwick Seminary, SG100007081

Sullivan County

Hillig Castle, 165 Castle Hill Rd., Liberty vicinity, SG100007082

Ulster County

House at 272 Albany Avenue (Albany Avenue, Kingston, Ulster County, New York MPS), 272 Albany Ave., Kingston, MP100007079

OREGON

Benton County

Oregon State University Historic District (Boundary Decrease), Monroe and Orchard Ave., 30th St., Washington Wy., Jefferson Ave., 11th St., Corvallis, BC100007085

Clackamas County

Historic City Hall, 22825 Willamette Dr., West Linn, SG100007086

Multnomah County

O.K. Jeffery Aircraft Factory, 3300 NE Broadway, Portland, SG100007087

Washington County

Portland Golf Club Clubhouse, 5900 SW Scholls Ferry Rd., Portland, SG100007088

PUERTO RICO

Yauco Municipality, Public Health Unit at Yauco, (Puerto Rico Reconstruction Administration MPS), 64 Comercio St., Yauco, MP100007078

Additional documentation has been received for the following resource:

OREGON

Benton County

Oregon State University Historic District (Additional Documentation), Monroe and Orchard Ave., 30th St., Washington Wy., Jefferson Ave., 11th St., Corvallis, AD08000546

Authority: Section 60.13 of 36 CFR part 60.

Dated: September 21, 2021.
Julie H. Ernstein,
Acting Chief, National Register of Historic Places/National Historic Landmarks Program.

[FR Doc. 2021-21103 Filed 9-28-21; 8:45 am]

BILLING CODE 4312-52-P